DEPARTMENT OF ENERGY

Federal Energy Regulatory Commission

Combined Notice of Filings #1

Take notice that the Commission received the following electric corporate filings:

Docket Numbers: EC06-129-008.

Applicants: Capital Research and Management Company.

Description: Request for Extension of Blanket Authorization Under Section 203 of the Federal Power Act of Capital Research and Management Company, et al.

Filed Date: 8/30/21.

Accession Number: 20210830-5177.

Comment Date: 5 p.m. ET 9/20/21.

Docket Numbers: EC21-124-000.

Applicants: Gruver Wind Interconnection, LLC, Gruver Wind, LLC, KODE Novus I, LLC.

Description: Joint Application for Authorization Under Section 203 of the Federal Power Act of Gruver Wind Interconnection, LLC, et al.

Filed Date: 9/1/21.

Accession Number: 20210901-5234.

Comment Date: 5 p.m. ET 9/22/21.

Take notice that the Commission received the following Complaints and Compliance filings in EL Dockets:

Docket Numbers: EL21-100-000.

Applicants: Nebraska Public Power District v. Tri-State Generation and Transmission Association, Inc., and Southwest Power Pool, Inc.

Description: Complaint of Nebraska Public Power District.

Filed Date: 9/1/21.

Accession Number: 20210901-5220.

Comment Date: 5 p.m. ET 9/21/21.

Take notice that the Commission received the following electric rate filings:

Docket Numbers: ER20-676-005.

Applicants: Tri-State Generation and Transmission Association, Inc.

Description: Compliance filing: Settlement Compliance Filing to be effective 3/1/2021.

Filed Date: 9/1/21.

Accession Number: 20210901-5169.

Comment Date: 5 p.m. ET 9/22/21.

Docket Numbers: ER21-2438-001.

Applicants: Southwest Power Pool, Inc.

Description: Tariff Amendment: 3630SR1 Maverick Wind Project GIA to be effective 6/29/2021.

Filed Date: 9/2/21.

Accession Number: 20210902-5083.

Comment Date: 5 p.m. ET 9/23/21.

Docket Numbers: ER21-2490-001.

Applicants: PJM Interconnection, L.L.C.

Description: Tariff Amendment: Errata to Amendment to ISA No.2967, in Docket No. ER21-2490-000 to be effective 6/17/2011.

Filed Date: 9/2/21.

Accession Number: 20210902-5090.

Comment Date: 5 p.m. ET 9/23/21.

Docket Numbers: ER21-2818-000.

Applicants: Tri-State Generation and Transmission Association, Inc.

Description: § 205(d) Rate Filing: Revisions to Rate Schedule FERC No. 281 (Modified CTP Methodology) to be effective 11/1/2021.

Filed Date: 9/1/21.

Accession Number: 20210901-5171.

Comment Date: 5 p.m. ET 9/22/21.

Docket Numbers: ER21-2819-000.

Applicants: South Field Energy LLC.

Description: § 205(d) Rate Filing: Reactive Power Rate Schedule and Request for Waiver and Expedited Action to be effective 10/1/2021.

Filed Date: 9/2/21.

Accession Number: 20210902-5000.

Comment Date: 5 p.m. ET 9/23/21.

Docket Numbers: ER21-2820-000.

Applicants: York Generation Company LLC.

Description: Tariff Amendment: Notice of Cancellation to be effective 9/20/2021.

Filed Date: 9/2/21.

Accession Number: 20210902-5033.

Comment Date: 5 p.m. ET 9/23/21.

Docket Numbers: ER21-2821-000.

Applicants: Southwest Power Pool, Inc.

Description: § 205(d) Rate Filing: 3558R1 WAPA, MDU & MISO Interconnection Agreement to be effective 12/31/9998.

Filed Date: 9/2/21.

Accession Number: 20210902-5046.

Comment Date: 5 p.m. ET 9/23/21.

Docket Numbers: ER21-2822-000.

Applicants: Commonwealth Edison Company, PJM Interconnection, L.L.C.

Description: § 205(d) Rate Filing: Commonwealth Edison Company submits tariff filing per 35.13(a)(2)(iii): ComEd submits revisions to Att. H-13 re: Sterling Rail, L.L.C. to be effective 9/3/2021.

Filed Date: 9/2/21.

Accession Number: 20210902-5078.

Comment Date: 5 p.m. ET 9/23/21.

Docket Numbers: ER21-2823-000.

Applicants: Midcontinent Independent System Operator, Inc.

Description: § 205(d) Rate Filing: 2021-09-02_SA 3313 WAPA-MDU 1st Revised Interconnection Agreement to be effective 12/31/9998.

Filed Date: 9/2/21.

Accession Number: 20210902-5113.

Comment Date: 5 p.m. ET 9/23/21.

Docket Numbers: ER21-2824-000.

Applicants: Duke Energy Carolinas, LLC.

Description: Tariff Amendment: DEC-Broad River Energy, LLC SA No. 240—Notice of Cancellation to be effective 11/2/2021.

Filed Date: 9/2/21.

Accession Number: 20210902-5117.

Comment Date: 5 p.m. ET 9/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2021.
Kimberly D. Bose,
Secretary.

[FR Doc. 2021-19458 Filed 9-7-21; 8:45 am]

BILLING CODE 6717-01-P